PEACE CORPS

Notice of Information Collection

AGENCY: Peace Corps.

ACTION: Notice and request for OMB review and comment.

Title: Intention To Conduct a Survey of and Focus Groups With Returned Peace Corps Volunteers.

SUMMARY: The Peace Corps has submitted to the Office of Management and Budget (OMB) for clearance, a proposal for collection of information under the provisions of the Paperwork Reduction Act of 1995. The proposed collection will survey a sample of Returned Peace Corps Volunteers about their thoughts about their in-country experience, post-service transition, post- service education and career, and their third core goal activities of promoting a better understanding of other peoples on the part of Americans. The data collected will inform agency programming and help the Agency to assess, through updated and objective data, the extent of RPCVs' cross-cultural activities with their family, friends, and communities throughout the United States with whom RPCVs come in contact. The data will be used specifically by the Office of Domestic Programs to review the range and type of services and support available to RPCVs and by the Office of Strategic Information, Research, and Planning to support Agency level reporting. In addition to the survey, the Office of Strategic Information, Research, and Planning wishes to conduct focus groups with Returned Peace Corps Volunteers (RPCVs) about their post-service transition, post-service education and career, and their third goal activities of promoting a better understanding of other peoples on the part of Americans. The data will be used to assess the range and type of services available to RPCVs and to support accurate interpretation of Agency level data.

The initial Federal Register notice was published on April 30, 2009, Volume 74, No. 82, pg. 20004 for 60 days. Also available at GPO Access: http://wais.access.gpo.gov. No comments, inquiries or responses to the notice were received. A copy of the proposed information collections can be obtained from Susan Jenkins, Office of Strategic Information, Research and Planning, Peace Corps, 1111 20th Street, NW., Washington, DC 20526. Dr. Jenkins can be contacted by telephone at 202-692-1241 or e-mail at SJenkin2@peacecorps.gov. E-mail comments must be made in text and not in attachments. Submit comments on or before July 13, 2009.

ADDRESSES: Written comments should be sent to the Peace Corps Desk Officer, Office of Information and Regulatory Affairs, Office of Management and Budget, New Executive Office Building, Room 10102, 735 17th Street, NW., Washington, DC 20503. And to Susan Jenkins, Office of Strategic Information, Research and Planning, Peace Corps, 1111 20th Street, NW., Washington, DC 20526. Dr. Jenkins can be contacted by telephone at 202-692-1241 or e-mail at SJenkin2@peacecorps.gov.

FOR FURTHER INFORMATION CONTACT: Susan Jenkins, Office of Strategic Information, Research and Planning, Peace Corps, 1111 20th Street, NW., Washington, DC 20526.

SUPPLEMENTARY INFORMATION:

Title: Survey of Returned Peace Corps Volunteers.

Need for and Use of This Information: The survey is the fourth in a series of Returned Peace Corps Volunteer surveys that have been administered approximately every ten years. This iteration will be a voluntary, Web-based survey to gather information about Volunteers' in-country experience, post-service transition, post- service education and career, and their third goal activities of promoting a better understanding of other peoples on the part of Americans. The data will be used to assess the range and type of services available to RPCVs, improve Peace Corps operations (e.g., recruitment for PC Response), and support Agency level performance reporting. Where possible, data will be compared across surveys to look for trends over time. Data will be collected from a simple random sample of Returned Peace Corps Volunteers sufficient to gather data with a 99 percent confidence level and a confidence interval of plus or minus 5.

Respondents: Returned Peace Corps Volunteers.

Respondents' Obligation To Reply: Voluntary.

Burden on the Public

a. Annual reporting burden: 750 hours.

b. Annual respondent recordkeeping burden: 0 hours.

c. Estimated average burden per response: 30 minutes.

d. Frequency of response: One-time.

e. Estimated number of respondents: 1,500.

f. Estimated cost to respondents: $0.00/$0.00.

Dated: May 22, 2009.
Garry Stanberry,
Deputy Associate Director for Management.

[FR Doc. E9-13851 Filed 6-11-09; 8:45 am]

BILLING CODE 6015-01-P